DEPARTMENT OF COMMERCE

International Trade Administration

[A-570-898]

Amended Final Results of Antidumping Duty Administrative Review: Chlorinated Isocyanurates from the People's Republic of China

AGENCY: Import Administration, International Trade Administration, Department of Commerce.

SUMMARY: On January 2, 2008, the Department of Commerce (“Department”) published in the Federal Register the final results of the first administrative review of the antidumping duty order on chlorinated isocyanurates from the People's Republic of China (“PRC”). See Chlorinated Isocyanurates from the People's Republic of China: Final Results of the Antidumping Duty Administrative Review, 73 FR 159 (January 2, 2008) (“Final Results”), and accompanying Issues and Decision Memorandum. The period of review covered December 16, 2004, through May 31, 2006. We are amending our Final Results to correct ministerial errors made in the calculation of the antidumping duty margin for Hebei Jiheng Chemical Company Ltd. (“Jiheng Chemical”), pursuant to section 751(h) of the Tariff Act of 1930, as amended (“Act”).

EFFECTIVE DATE: February 19, 2008.

FOR FURTHER INFORMATION CONTACT: Katharine Huang or Charles Riggle, AD/CVD Operations, Office 8, Import Administration, International Trade Administration, U.S. Department of Commerce, 14th Street and Constitution Avenue NW, Washington, DC 20230; telephone: (202) 482-1271 or (202) 482-0650, respectively.

SUPPLEMENTARY INFORMATION:

Background

On December 26, 2007, Clearon Corporation (“Clearon”) and Occidental Chemical Corporation (“Petitioners”), petitioners in the underlying investigation, BioLab, Inc. (“BioLab”), a domestic producer of the like product, and Hebei Jiheng Chemical Company Ltd. (“Jiheng Chemical”), the respondent in this proceeding, filed timely ministerial error allegations with respect to the Department's antidumping duty margin calculation in the Final Results. On December 31, 2007, Petitioners and Jiheng Chemical filed timely rebuttal comments.

Scope of Order

The products covered by this order are chlorinated isocyanurates, as described below:

Chlorinated isocyanurates are derivatives of cyanuric acid, described as chlorinated s-triazine triones. There are three primary chemical compositions of chlorinated isocyanurates: (1) trichloroisocyanuric acid (Cl3(NCO)3), (2) sodium dichloroisocyanurate (dihydrate) (NaCl2(NCO)3•2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, 2933.69.6050, 3808.40.50, 3808.50.40 and 3808.94.50.00 of the Harmonized Tariff Schedule of the United States (“HTSUS”). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

Ministerial Errors

A ministerial error as defined in section 751(h) of the Act “includes an error in addition, subtraction, or other arithmetic function, clerical error resulting from inaccurate copying, duplication, or the like, and any other type of unintentional error which the Secretary considers ministerial.” See also 19 CFR 351.224(f).

After analyzing all interested parties' comments, we have determined, in accordance with 19 CFR 351.224(e), that ministerial errors existed in certain calculations for Jiheng Chemical in the Final Results. Correction of these errors results in a change to Jiheng Chemical's final antidumping duty margin. The rate for the PRC-wide entity remains unchanged. For a detailed discussion of these ministerial errors, as well as the Department's analysis, see Memorandum to Wendy J. Frankel, Director, AD/CVD Operations, Office 8, from Katharine G. Huang, International Trade Compliance Analyst, through Charles Riggle, Program Manager, AD/CVD Operations, Office 8: Analysis of Ministerial Error Allegations in Final Results for Antidumping Duty Review on Chlorinated Isocyanurates from the People's Republic of China, dated February 11, 2008. Therefore, in accordance with section 751(h) of the Act and 19 CFR 351.224(e), we are amending the Final Results of the administrative review of chlorinated isocyanurates from the PRC. The revised final weighted-average dumping margin for Jiheng Chemical is as follows:

Exporter/Manufacturer | Original Weighted Average Margin Percentage | Amended Weighted- Average margin Percentage
Hebei Jiheng Chemical Company Ltd. | 18.44 | 20.10

Assessment Rates

The Department intends to issue assessment instructions to U.S. Customs and Border Protection (“CBP”) 15 days after the date of publication of these amended final results of review. In accordance with 19 CFR 351.212(b)(1), we have calculated importer-specific assessment rates for merchandise subject to this review.

Cash Deposit Requirements

The following deposit requirements will be effective upon publication of this notice of amended final results of administrative review for all shipments of the subject merchandise entered, or withdrawn from warehouse, for consumption on or after the date of publication, as provided by section 751(a)(2)(C) of the Act: (1) for subject merchandise exported by Jiheng Chemical, the cash deposit rate will be 20.10 percent; (2) for previously reviewed or investigated exporters not listed above that have separate rates, the cash-deposit rate will continue to be the exporter-specific rate published for the most recent period; (3) for all PRC exporters of subject merchandise, which have not been found to be entitled to a separate rate, the cash-deposit rate will be the PRC-wide rate of 285.63 percent; and (4) for all non-PRC exporters of subject merchandise that have not received their own rate, the cash-deposit rate will be the rate applicable to the PRC exporter that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing this determination and notice in accordance with sections 751(a) and 777(i) of the Act.

Dated: February 11, 2008.
Stephen J. Claeys,
Acting Assistant Secretary for Import Administration.

[FR Doc. E8-3014 Filed 2-15-08; 8:45 am]

Billing Code: 3510-DR-S